DEPARTMENT OF TRANSPORTATION

Federal Highway Administration

Rescinding the Notice of Intent To Prepare Environmental Impact Statement (EIS): Maui County, Hawaii

AGENCY: Federal Highway Administration (FHWA), DOT.

ACTION: Notice to rescind notice of intent (NOI) to prepare an environmental impact statement (EIS).

SUMMARY: The FHWA is issuing this notice to advise the public that it is rescinding its NOI and will not be preparing an EIS to evaluate alternatives that would improve the roadway capacity, safety, and reliability of Honoapiilani Highway between Maalaea and Launiupoko on the west side of the island of Maui. A NOI to prepare an EIS was published in the Federal Register on June 7, 2007.

FOR FURTHER INFORMATION CONTACT: Ralph Rizzo, Division Administrator, Federal Highway Administration, 300 Ala Moana Boulevard, Box 50206, Honolulu, Hawaii 96850, Telephone: (808) 541-2700.

SUPPLEMENTARY INFORMATION: The FHWA, in cooperation with the State of Hawaii Department of Transportation (HDOT), initiated an EIS. Improvements for this corridor were considered necessary to accommodate the existing and projected traffic demands, and to address safety and reliability. The project area is composed predominantly of a steep, rocky area known as the Pali area and a coastal plain. Due to the topography, the estimated project construction cost for any build alternative would likely be substantial, and because of limited funding availability, HDOT has decided not to proceed with the project. Therefore, the preparation of the EIS is being terminated.

(Catalog of Federal Domestic Assistance Program Number 20.205, Highway Planning and Construction. The regulations implementing Executive Order 12372 regarding intergovernmental consultation on Federal programs and activities apply to this program.)

Authority: 23 U.S.C. 139, 23 CFR 771, and 40 CFR 1500-1508.

Issued on: May 29, 2020.
Ralph Rizzo,
Division Administrator, Honolulu, HI.

[FR Doc. 2020-12113 Filed 6-4-20; 8:45 am]

BILLING CODE 4910-RY-P